FEDERAL COMMUNICATIONS COMMISSION

47 CFR Part 73

[DA 03-2036; MB Docket No. 03-58; RM-10608]

Radio Broadcasting Services; Meigs and Pelham, GA

AGENCY: Federal Communications Commission.

ACTION: Final rule.

SUMMARY: This document reallots Channel 222A from Pelham, Georgia, to Meigs, Georgia, and modifies the authorization for Station WQLI to specify on operation Channel 222A at Meigs in response to a petition filed by Mitchell County Television. See 68 FR 16750, April 7, 2003. The coordinates for Channel 222A at Meigs are 31-05-12 and 84-12-10. With this action, this proceeding is terminated.

DATES: Effective August 7, 2003.

FOR FURTHER INFORMATION CONTACT: Kathleen Scheuerle, Media Bureau, (202) 418-2180.

SUPPLEMENTARY INFORMATION: This is a summary of the Commission's Report and Order, MB Docket No. 03-85, adopted June 18, 2003, and released June 23, 2003. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Georgia, is amended by adding Meigs, Channel 222A and by removing Pelham, Channel 222A.

Federal Communications Commission.
John A. Karousos,
Assistant Chief, Audio Division, Media Bureau.

[FR Doc. 03-16956 Filed 7-3-03; 8:45 am]

BILLING CODE 6712-01-P